DEPARTMENT OF COMMERCE

National Oceanic and Atmospheric Administration

RIN: 0648-XG87

Fisheries of the South Atlantic; South Atlantic Fishery Management Council; Meeting

AGENCY: National Marine Fisheries Service (NMFS), National Oceanic and Atmospheric Administration (NOAA), Commerce.

ACTION: Notice of a South Atlantic Deepwater Coral Teacher's Workshop.

SUMMARY: The South Atlantic Fishery Management Council, in partnership with NOAA Undersea Research Center, NOAA Fisheries, and Harbor Branch Oceanographic Institution is conducting a Deepwater Coral Teacher Workshop in Ft. Pierce, FL.

DATES: The workshop will take place April 19, 2008. See SUPPLEMENTARY INFORMATION.

ADDRESSES: The workshop will be held at the Harbor Branch Oceanographic Institute at Florida Atlantic University, 5600 U.S. 1, North, Ft. Pierce, FL; telephone: (772) 465-2400.

Council address: South Atlantic Fishery Management Council, 4055 Faber Place Drive, Suite 201, North Charleston, SC 29405.

FOR FURTHER INFORMATION CONTACT: Kim Iverson, Public Information Officer; telephone: (843) 571-4366 or toll free (866) SAFMC-10; fax: (843) 769-4520; email: kim.iverson@safmc.net.

SUPPLEMENTARY INFORMATION: The Deepwater Coral Teacher's Workshop will take place from 8:30 a.m. - 5 p.m. on April 19, 2008.

The Workshop is designed for teachers and educators targeting high-school grade students to better increase their student's knowledge and awareness of these important marine ecosystems. The Workshop will include presentations on deepwater coral reefs found off of Florida, an overview of the Oculina Habitat Area of Particular Concern, deepwater coral research, mapping and monitoring, and management. The Workshop also includes a guided tour of the Smithsonian Marine Station in Ft. Pierce, FL. Registration for the Workshop is limited.

Special Accommodations

This meeting is physically accessible to people with disabilities. Requests for auxiliary aids should be directed to the council office (see ADDRESSES) 3 days prior to the meeting.

Note: The times and sequence specified in this agenda are subject to change.

Dated: March 31, 2008.
Tracey L. Thompson,
Acting Director, Office of Sustainable Fisheries, National Marine Fisheries Service.

[FR Doc. E8-6882 Filed 4-2-08; 8:45 am]

BILLING CODE 3510-22-S